DEPARTMENT OF TRANSPORTATION

Federal Aviation Administration

14 CFR Part 39

[Docket No. FAA-2005-22196; Directorate Identifier 2005-NM-170-AD; Amendment 39-14239; AD 2005-17-18]

RIN 2120-AA64

Airworthiness Directives; Airbus Model A330-200, A330-300, A340-200, and A340-300 Series Airplanes; and Model A340-541 and -642 Airplanes

AGENCY: Federal Aviation Administration (FAA), Department of Transportation (DOT).

ACTION: Final rule; request for comments.

SUMMARY: The FAA is adopting a new airworthiness directive (AD) for certain Airbus Model A330-200, A330-300, A340-200, and A340-300 series airplanes; and Model A340-541 and -642 airplanes. This AD requires repetitively resetting the display units (DUs) for the electronic instrument system (EIS) either by switching them off and back on again or by performing a complete electrical shutdown of the airplane. This AD results from an incident in which all of the DUs for the EIS went blank simultaneously during flight. We are issuing this AD to prevent automatic reset of the DUs for the EIS during flight and consequent loss of data from the DUs, which could reduce the ability of the flightcrew to control the airplane during adverse flight conditions.

DATES: This AD becomes effective September 12, 2005.

The Director of the Federal Register approved the incorporation by reference of certain publications listed in the AD as of September 12, 2005.

We must receive comments on this AD by October 25, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on certain Airbus Model A330-200, A330-300, A340-200, and A340-300 series airplanes; and A340-541 and -642 airplanes. The DGAC advises of an incident that occurred on a Model A330 series airplane, in which all six of the liquid crystal display units (DUs) for the electronic instrument system (EIS) (which is equipped with the EIS2 software standard) went blank simultaneously during flight. The DUs recovered automatically after approximately 40 seconds. This incident was attributed to an automatic reset function of the DUs. (After the DUs have been continuously powered for more than 6 days, an internal timer automatically resets them.) This condition, if not corrected, could result in loss of data from the DUs, which could reduce the ability of the flightcrew to control the airplane during adverse flight conditions.

Relevant Service Information

Airbus has issued All Operator Telexes (AOTs) A330-31A3092 (for Model A330-200 and -300 series airplanes), A340-31A4102 (for Model A340-200 and -300 series airplanes), and A340-31A5023 (for Model A340-541 and -642 airplanes), all dated August 1, 2005. The AOTs are effective for airplanes of the identified models on which the EIS is equipped with the EIS2 software standard, version L4-1 or L-5. The AOTs describe procedures for resetting the DUs for the EIS by switching them off, waiting 5 seconds or longer, then switching the DUs back on again. The DGAC mandated the AOTs and issued French emergency airworthiness directive UF-2005-150, dated August 10, 2005, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent automatic reset of the DUs for the EIS during flight and consequent loss of data from the DUs, which could reduce the ability of the flightcrew to control the airplane during adverse flight conditions. This AD requires repetitively resetting the DUs for the EIS either by accomplishing the actions specified in the AOTs described previously, or by performing a complete electrical shutdown of the airplane. We have determined that switching the DUs off and back on again may be properly performed by flight deck crew (or by certificated maintenance personnel) because this action does not require tools, precision measuring equipment, training, or pilot logbook endorsements, or the use of or reference to technical data that are not contained in the body of the AD.

Interim Action

We consider this AD interim action. The manufacturer is currently developing a modification that will address the unsafe condition identified in this AD. Once this modification is developed, approved, and available, we may consider additional rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22196; Directorate Identifier 2005-NM-170-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-17-18 Airbus: Amendment 39-14239. Docket No. FAA-2005-22196; Directorate Identifier 2005-NM-170-AD.

Effective Date

(a) This AD becomes effective September 12, 2005.

Affected ADs

(b) None.

Applicability

(c) This AD applies to Airbus Model A330-201, -202, -203, -223, -243, -301, -321, -322, -323, -341, -342, and -343 airplanes; and A340-211, -212, -213, -311, -312, -313, -541, and -642 airplanes; certificated in any category; on which one of the Airbus Electronic Instrument System (EIS) 2 software versions listed in Table 1 of this AD is installed.

Table 1.—Applicability
EIS 2 software version | Installed by this Airbus modification in production | Or installed by one of these Airbus service bulletins in service
L4-1 | 51153 | A330-31-3056, A330-31-3057, or A340-31-5001.
L5 | 51974 | A330-31-3056, A330-31-3069, A330-31-4087, or A340-31-5012.

Unsafe Condition

(d) This AD results from an incident in which all of the display units (DUs) for the EIS went blank simultaneously during flight. The FAA is issuing this AD to prevent automatic reset of the DUs for the EIS during flight and consequent loss of data from the DUs, which could reduce the ability of the flightcrew to control the airplane during adverse flight conditions.

Compliance

(e) You are responsible for having the actions required by this AD performed within the compliance times specified, unless the actions have already been done.

Resetting the DUs for the EIS

(f) Within 2 days after the effective date of this AD, or within 4 days after the last reset of the DUs for the EIS or complete electrical shutdown of the airplane, whichever is first: Reset the DUs for the EIS by doing the actions in either paragraph (f)(1) or (f)(2) of this AD. Thereafter, do the actions in paragraph (f)(1) or (f)(2) of this AD at intervals not to exceed 4 days.

(1) Switch off each DU for the EIS, wait 5 seconds or longer, and switch the DU back on again, in accordance with Airbus All Operator Telex (AOT) A330-31A3092 (for Model A330-201, -202, -203, -223, -243, -301, -321, -322, -323, -341, -342, and -343 airplanes), A340-31A4102 (for A340-211, -212, -213, -311, -312, and -313 airplanes), or A340-31A5023 (for Model A340-541 and -642 airplanes), all dated August 1, 2005, as applicable. This action may be performed by the flight deck crew or by certificated maintenance personnel.

(2) Perform a complete electrical shutdown of the airplane.

Alternative Methods of Compliance (AMOCs)

(g) The Manager, International Branch, ANM-116, Transport Airplane Directorate, FAA, has the authority to approve AMOCs for this AD, if requested in accordance with the procedures found in 14 CFR 39.19.

Related Information

(h) French emergency airworthiness directive UF-2005-150, dated August 10, 2005, also addresses the subject of this AD.

Material Incorporated by Reference

(i) You must use the documents listed in Table 2 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Airbus all operators telex | Date
A330-31A3092 | August 1, 2005.
A340-31A4102 | August 1, 2005.
A340-31A5023 | August 1, 2005.

Issued in Renton, Washington, on August 18, 2005.
Michael Zielinski,
Acting Manager, Transport Airplane Directorate, Aircraft Certification Service.

[FR Doc. 05-16896 Filed 8-25-05; 8:45 am]

BILLING CODE 4910-13-P